DEPARTMENT OF HOMELAND SECURITY

Coast Guard

33 CFR Part 100

[Docket No. USCG-2015-0240]

RIN 1625-AA08

Eighth Coast Guard District Annual Special Local Regulation; REV3 Triathlon; Tennessee River 646.0-649.0; Knoxville, TN

AGENCY: Coast Guard, DHS.

ACTION: Notice of enforcement of regulation.

SUMMARY: The Coast Guard will enforce a Special Local Regulation for the “REV3 Triathlon” on the Tennessee River mile 646.0 to 649.0 from 7:00 a.m. until 9:30 a.m. on May 17, 2015. This action is necessary for the safeguard of participants and spectators, including all crews, vessels, and persons on navigable waters during the “REV3 Triathlon.” During the enforcement period, entry into, transiting or anchoring in the Regulated Area is prohibited to all vessels not registered with the sponsor as participants or official patrol vessels, unless specifically authorized by the Captain of the Port (COTP) Ohio Valley or his designated representative.

DATES: The regulations in 33 CFR 100.801, Table 1 Sector Ohio Valley, No. 4 will be enforced from 7:00 a.m. until 9:30 a.m. on May 17, 2015.

FOR FURTHER INFORMATION CONTACT: If you have questions on this notice of enforcement, call Petty Officer Chad Phillips, Coast Guard Marine Safety Detachment Nashville at 615-736-5421, or Chad.e.phillips@uscg.mil.

SUPPLEMENTARY INFORMATION: The Coast Guard will enforce the Special Local Regulation for the annual “REV3 Triathlon” listed in 33 CFR 100.801 Table 1, Sector Ohio Valley, No. 4 on May 17, 2015 from 7:00 a.m. until 9:30 a.m.

Under the provisions of 33 CFR 100.801, entry into the regulated area listed in Table 1, Sector Ohio Valley, No. 4 is prohibited unless authorized by the Captain of the Port or his designated representative. Persons or vessels desiring to enter into or pass through the Special Local Regulation area must request permission from the Captain of the Port or his designated representative. If permission is granted, all persons and vessels shall comply with the instructions of the Captain of the Port or his designated representative.

This notice is issued under authority of 5 U.S.C. 552(a), and 33 U.S.C. 1233. In addition to this notice in the Federal Register, the Coast Guard will provide the maritime community with advance notification of this enforcement period via Local Notice to Mariners and Marine Information Broadcasts.

If the Captain of the Port Ohio Valley or his Patrol Commander determines that the Special Local Regulation need not be enforced for the full duration stated in this notice of enforcement, he or she may use a Broadcast Notice to Mariners to grant permission to enter the regulated area.

Dated: April 22, 2015.
R.V. Timme,
Captain, U.S. Coast Guard, Captain of the Port Ohio Valley.

[FR Doc. 2015-11929 Filed 5-15-15; 8:45 am]

BILLING CODE 9110-04-P